DEPARTMENT OF ENERGY

Federal Energy Regulatory Commission

Combined Notice of Filings

Take notice that the Commission has received the following Natural Gas Pipeline Rate and Refund Report filings:

Filings Instituting Proceedings

Docket Numbers: RP17-969-000.

Applicants: Mercuria Energy America, Inc., Noble Americas Gas & Power Corp.

Description: Joint Petition for Temporary Waiver of Commission Policies, Capacity Release Regulations and Related Tariff Provisions and Request for Expedited Treatment of Mercuria Energy America, Inc., et al.

Filed Date: 8/10/17.

Accession Number: 20170810-5143.

Comments Due: 5 p.m. ET 8/22/17.

Docket Numbers: RP17-955-001.

Applicants: Tennessee Gas Pipeline Company, L.L.C.

Description: Tennessee Gas Pipeline Company, L.L.C. submits tariff filing per 154.205(b): Volume No. 2—Amended Statoil—Susquehanna West Project to be effective 9/1/2017.

Filed Date: 8/11/17.

Accession Number: 20170811-5000.

Comments Due: 5 p.m. ET 8/23/17.

Docket Numbers: RP17-970-000.

Applicants: Colorado Interstate Gas Company, L.L.C.

Description: 2017 Penalties Assessed Compliance Filing of Colorado Interstate Gas Company, L.L.C.

Filed Date: 8/15/17.

Accession Number: 20170815-5038.

Comments Due: 5 p.m. ET 8/28/17.

Docket Numbers: RP17-971-000.

Applicants: Southwest Gas Transmission Company, A Li.

Description: Southwest Gas Transmission Company, A Limited Partnership submits tariff filing per 154.204: Company Contact Name to be effective 8/14/2017.

Filed Date: 8/15/17.

Accession Number: 20170815-5045.

Comments Due: 5 p.m. ET 8/28/17.

Docket Numbers: RP17-972-000.

Applicants: Wyoming Interstate Company, L.L.C.

Description: Wyoming Interstate Company, L.L.C. submits tariff filing per 385.602: Settlement Agreement in Docket No. RP17-302-000.

Filed Date: 8/15/17.

Accession Number: 20170815-5131.

Comments Due: 5 p.m. ET 8/28/17.

Docket Numbers: RP17-973-000.

Applicants: Equitrans, L.P.

Description: Equitrans, L.P. submits tariff filing per 154.204: Update NAESB 3.0 Order No. 587-W Compliance Filing to be effective 9/15/2017.

Filed Date: 8/15/17.

Accession Number: 20170815-5137.

Comments Due: 5 p.m. ET 8/28/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated August 16, 2017.
Nathaniel J. Davis, Sr.,
Deputy Secretary.

[FR Doc. 2017-17744 Filed 8-21-17; 8:45 am]

BILLING CODE 6717-01-P